SOCIAL SECURITY ADMINISTRATION

[Docket No: SSA-2017-0029]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0029].

I. The information collections below are pending at SSA. SSA will submit them to OMB within 60 days from the date of this notice. To be sure we consider your comments, we must receive them no later than July 31, 2017. Individuals can obtain copies of the collection instruments by writing to the above email address.

1. State Death Match Collections—20 CFR 404.301, 404.310-404.311, 404.316, 404.330-404.341, 404.350-404.352, 404.371, and 416.912-0960-0700. SSA uses the State Death Match Collections to ensure the accuracy of payment files by detecting unreported or inaccurate deaths of beneficiaries. Under the Social Security Act (Act), entitlement to retirement, disability, wife's, husband's, or parent's benefits terminate when the beneficiary dies. The states furnish death certificate information to SSA via the manual registration process or the Electronic Death Registration Process (EDR). Both death match processes are automated electronic transfers between the states and SSA. The respondents are the states' bureaus of vital statistics.

Type of Request: Revision of an OMB-approved information collection.

Modality of completion | Number of respondents | Frequency of response | Number of responses | Average cost per record request | Estimated total annual cost burden
Non-EDR
State Death Match—CyberFusion/GSO: Non-EDR Records from EDR sites | 45 | 3,700 | 166,500 | $.88 | $146,520
State Death Match—CyberFusion/GSO: Non-EDR sites | 12 | 48,000 | 576,000 | .88 | 506,880
Total | 57 |  | 742,500 |  | 653,400
EDR and Expected EDR
State Death Match-EDR | 45 | 48,500 | 2,182,500 | 3.17 | 6,918,525
States Expected to Become—State Death Match-EDR Within the Next 3 Years | 7 | 62,600 | 438,200 | 3.17 | 1,389,094
Totals | 52 |  | 2,620,700 |  | 8,307,619
Grand Total
Grand Total | 109 |  | 3,363,200 |  | * 8,961,019
* Please note that both of these data matching processes are electronic and there only a cost burden, and no hourly burden for the respondent to provide this information.

2. Application for Access to SSA Systems—20 CFR 401.45—0960-0791. SSA uses Form SSA-120, Application for Access to SSA Systems, to allow limited access to SSA's information resources for SSA employees and non-Federal employees (contractors). SSA requires supervisory approval, and local or component Security Officer review prior to granting this access. The respondents are SSA employees and non-Federal Employees (contractors) who require access to SSA systems to perform their jobs.

Note: Because SSA employees are Federal workers exempt from the requirements of the Paperwork Reduction Act, the burden below is only for SSA contractors.

Type of Request: Revision of an OMB-approved information collection.

Modality of completion | Number of respondents | Frequency of response | Average burden per response (minutes) | Estimated total annual burden (hours)
SSA-120 (paper) | 685 | 1 | 2 | 23
SSA-120 (Internet) | 1,482 | 1 | 1.5 | 37
Totals | 2,167 |  |  | 60

II. SSA submitted the information collection below to OMB for clearance. Your comments regarding the information collection would be most useful if OMB and SSA receive them 30 days from the date of this publication. To be sure we consider your comments, we must receive them no later than June 29, 2017. Individuals can obtain copies of the OMB clearance package by writing to OR.Reports.Clearance@ssa.gov.

RS/DI Quality Review Case Analysis: Sampled Number Holder; Auxiliaries/Survivors; Parent; and Stewardship Annual Earnings Test—0960-0189. Section 205(a) of the Act authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930, SSA-2931, and SSA-2932 to establish a national payment accuracy rate for all cases in payment status, and to serve as a source of information regarding problem areas in the Retirement Survivors Insurance (RSI) and Disability Insurance (DI) programs. We also use the information to measure the accuracy rate for newly adjudicated RSI or DI cases. SSA uses Form SSA-4659 to evaluate the effectiveness of the annual earnings test, and to use the results in developing ongoing improvements in the process. About twenty-five percent of respondents will have in-person reviews and receive one of the following appointment letters: (1) SSA-L8550-U3 (Appointment Letter—Sample Individual); (2) SSA-L8551-U3 (Appointment Letter—Sample Family); or (3) the SSA-L8552-U3 (Appointment Letter—Rep Payee). Seventy-five percent of respondents will receive a notice for a telephone review using the SSA-L8553-U3 (Beneficiary Telephone Contact) or the SSA-L8554-U3 (Rep Payee Telephone Contact). To help the beneficiary prepare for the interview, we include three forms with each notice: (1) SSA-85 (Information Needed to Review Your Social Security Claim) lists the information the beneficiary will need to gather for the interview; (2) SSA-2935 (Authorization to the Social Security Administration to Obtain Personal Information) verifies the beneficiary's correct payment amount, if necessary; and (3) SSA-8552 (Interview Confirmation) confirms or reschedules the interview if necessary. The respondents are a statistically valid sample of all OASDI beneficiaries in current pay status or their representative payees.

Type of Request: Revision of an OMB-approved information collection.

Modality of completion | Number of respondents | Frequency of response | Average burden per response (minutes) | Estimated total annual burden (hours)
SSA-2930 | 1,500 | 1 | 30 | 750
SSA-2931 | 850 | 1 | 30 | 425
SSA-4659 | 325 | 1 | 10 | 54
SSA-L8550-U3 | 385 | 1 | 5 | 32
SSA-L8551-U3 | 95 | 1 | 5 | 8
SSA-L8552-U3 | 35 | 1 | 5 | 3
SSA-L8553-U3 | 4,970 | 1 | 5 | 414
SSA-L8554-U3 | 705 | 1 | 5 | 59
SSA-8552 | 2,350 | 1 | 5 | 196
SSA-85 | 3,850 | 1 | 5 | 321
SSA-2935 | 2,350 | 1 | 5 | 196
SSA-8510 (also saved under OMB No. 0960-0707) | 800 | 1 | 5 | 67
Totals | 17,700 |  |  | 2,525

Dated: May 23, 2017.
Naomi R. Sipple,
Reports Clearance Officer, Social Security Administration.

[FR Doc. 2017-10969 Filed 5-26-17; 8:45 am]

BILLING CODE 4191-02-P